DEPARTMENT OF JUSTICE

[OMB 1140-0024]

Agency Information Collection Activities; Proposed eCollection eComments Requested; Demand 2 Program: Report of Firearms Transactions—ATF Form 5300.5

AGENCY: Bureau of Alcohol, Tobacco, Firearms and Explosives, Department of Justice.

ACTION: 30-Day notice.

SUMMARY: The Department of Justice (DOJ), Bureau of Alcohol, Tobacco, Firearms and Explosives (ATF), will be submitting the following information collection request to the Office of Management and Budget (OMB) for review and approval in accordance with the Paperwork Reduction Act of 1995.

DATES: Comments are encouraged and will be accepted for 30 days until December 18, 2024.

FOR FURTHER INFORMATION CONTACT: If you have comments especially on the estimated public burden or associated response time, suggestions, or need a copy of the proposed information collection instrument with instructions or additional information, please contact: Matthew S. Grim, National Tracing Center Division (NTCD)/Tracing Operations Records Management Branch (TORM), 244 Needy Road, Martinsburg, WV 25405, by email at Matthew.grim@atf.gov, or telephone at 304-260-3683.

SUPPLEMENTARY INFORMATION: The proposed information collection was previously published in the Federal Register, 89 FR 75581, on Monday, September 16, 2024, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1140-0024. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a previously approved collection.

2. Title of the Form/Collection: Demand 2 Program: Report of Firearms Transactions.

3. Agency form number, if any, and the applicable component of the Department of Justice sponsoring the collection: ATF Form 5300.5.

Component: Bureau of Alcohol, Tobacco, Firearms and Explosives, U.S. Department of Justice.

4. Affected public who will be asked or required to respond, as well as a brief abstract: Affected Public: Private Sector-for or not for profit institutions.

Abstract: The Demand 2 Program requires Federal Firearm Licensee's (FFL's) with 25 or more traces with a time to crime of 3 years or less in a calendar year, to submit an annual report followed by quarterly reports of used firearms acquired by the FFL. Due to the increase in Type 07 FFLs meeting Demand 2 criteria and their low or non-existent manufacturing activity, as well as the likelihood that some may turn to a Type 08 license to deal and avoid reporting requirement if Type 08 is not subjected to Demand 2, (IC) OMB # 1140-0024 is being revised to now include Type 07 and 08 FFLs as a population that is subject to the reporting requirements of the Demand 2 program.

5. Obligation to Respond: Mandatory under authority 18 U.S.C. 923(g), in the form and manner specified in 27 CFR 478.126(a).

6. Total Estimated Number of Respondents: 1,453 respondents.

7. Estimated Time per Respondent: 30 minutes.

8. Frequency: 4 times annually.

9. Total Estimated Annual Time Burden: 2,906 hours.

10. Total Estimated Annual Other Costs Burden: $424.00.

If additional information is required, contact: Darwin Arceo, Department Clearance Officer, Policy and Planning Staff, Justice Management Division, United States Department of Justice, Two Constitution Square, 145 N Street NE, 4W-218, Washington, DC 20530.

Dated: November 13, 2024.
Darwin Arceo,
Department Clearance Officer for PRA, U.S. Department of Justice.

[FR Doc. 2024-26792 Filed 11-15-24; 8:45 am]

BILLING CODE 4410-FY-P